CONSUMER PRODUCT SAFETY COMMISSION

Notification of Request for Extension of Approval of Information Collection Requirements—Testing and Recordkeeping Requirements Under the Standard for the Flammability of Mattresses and Mattress Pads

AGENCY: Consumer Product Safety Commission.

ACTION: Notice.

SUMMARY: In the March 1, 2007 Federal Register (72 FR 9311), the Consumer Product Safety Commission (CPSC or Commission) published a notice in accordance with provisions of the Paperwork Reduction Act of 1995 (44 U.S.C. Chapter 35) to announce the agency's intention to seek an extension of approval of information collection requirements in the Standard for the Flammability of Mattresses and Mattress Pads. 16 CFR part 1632. Comments were received from Barbara Lafferty and Clifford Nopp opposing a new standard for the flammability (open flame) of mattress sets under 16 CFR part 1633. Gabe Owens submitted comments stating that part 1632 should be terminated and superseded by the requirements in part 1633. These comments do not pertain to the collection of information requirements under part 1632. These comments should have been submitted in, and similar comments previously were addressed in the rulemaking proceeding promulgating 16 CFR part 1633, which is now codified. Accordingly, the Commission now announces that it is submitting to the Office of Management and Budget (OMB) a request for extension of approval of this collection of information.

The standard is intended to reduce unreasonable risks of burn injuries and deaths from fires associated with mattresses and mattress pads. The standard prescribes a test to assure that a mattress or mattress pad will resist ignition from a smoldering cigarette. The standard requires manufacturers and importers to perform prototype tests of each combination of materials and construction methods used to produce mattresses or mattress pads and to obtain acceptable results from such testing. Manufacturers and importers are required to maintain the records and test results specified under the standard. OMB previously approved the collection of information under control number 3041-0014. OMB's most recent extension of approval will expire on August 31, 2007.

An additional mattress standard was promulgated under section 4 of the Flammable Fabrics Act, 15 U.S.C. 1191-1204, effective July 1, 2007, to reduce deaths and injuries related to mattress fires, particularly those ignited by open flame sources such as lighters, candles and matches. 16 CFR part 1633. That standard established new performance requirements for mattresses and mattress sets that will generate a smaller size fire from open flame source ignitions. Part 1633 also contains recordkeeping requirements to document compliance with the standard. OMB approved that collection of information under Control Number 3041-0133, with an expiration date of June 30, 2009. 71 FR 37910.

In May 2006, an Interim Enforcement Policy for Mattresses subject to 16 CFR parts 1632 and 1633, effective May 1, 2006, was issued that reduced prototype surface testing and recordkeeping requirements from six mattress surfaces to two mattress surfaces for each new prototype created after March 15, 2006. That policy is available at http://www.cpsc.gov/BUSINFO/Interimmattress.pdf. Mattress prototypes created before March 15, 2006, are subject to the full requirements of part 1632. In addition, mattress pads are not subject to this policy and must continue to adhere to all the requirements set forth in part 1632.

Additional Information About the Request for Extension of Approval of Information Collection Requirements

Agency address: Consumer Product Safety Commission, 4330 East West Highway, Bethesda, MD 20814.

Title of information collection: Testing and Recordkeeping Requirements Under the Standard for the Flammability of Mattresses and Mattress Pads, 16 CFR Part 1632.

Type of request: Extension of approval.

Frequency of collection: Varies, depending upon the number of individual combinations of materials and methods of construction used to produce mattresses.

General description of respondents: Manufacturers and importers of mattresses and mattress pads.

Estimated number of respondents: 751.

Estimated number of hours per respondent: 26 hours per year.

Estimated number of hours for all respondents: 19,526 per year.

Estimated cost of collection for all respondents: $875,000.

Comments: Comments on this request for extension of approval of information collection requirements should be submitted by July 5, 2007 to (1) the Office of Information and Regulatory Affairs, Attn: OMB Desk Officer for CPSC, Office of Management and Budget, Washington, DC 20503; telephone: (202) 395-7340, and (2) to the Office of the Secretary by e-mail at cpsc-os@cpsc.gov, or mailed to the Office of the Secretary, Consumer Product Safety Commission, 4330 East West Highway, Bethesda, MD 20814. Comments may also be sent via facsimile at (301) 504-0127.

Copies of this request for approval of information collection requirements and supporting documentation are available from Linda Glatz, Division of Policy and Planning, Office of Information Technology and Technology Services, Consumer Product Safety Commission, 4330 East West Highway, Bethesda, MD 20814; telephone: (301) 504-7671 or by e-mail to lglatz@cpsc.gov.

Dated: May 29, 2007.
Todd A. Stevenson,
Secretary, Consumer Product Safety Commission.

[FR Doc. E7-10625 Filed 6-1-07; 8:45 am]

BILLING CODE 6355-01-P